DEPARTMENT OF COMMERCE

National Oceanic and Atmospheric Administration

50 CFR Part 218

RIN 0648-AX10

Taking and Importing Marine Mammals; U.S. Navy Training in the Cherry Point Range Complex

AGENCY: National Marine Fisheries Service (NMFS), National Oceanic and Atmospheric Administration (NOAA), Commerce.

ACTION: Proposed rule; extension of comment period.

SUMMARY: On March 16, 2009, the NMFS published its proposed regulations to govern the take of marine mammals incidental to training activities conducted within the U.S. Navy's Cherry Point Range Complex for the period of May 2009 through May 2014. The Federal Register notice indicated that written comments were due by April 6, 2009, which allowed 21 days for public input. In response to a request from the Marine Mammal Commission, NMFS has decided to extend the public comment period by 7 days, to April 13, 2009, which allows 28 days for public input.

DATES: The public comment period for this action has been extended from April 6, 2009 to April 13, 2009. Written comments and information must be received no later than April 13, 2009.

ADDRESSES: You may submit comments, identified by 0648-AX10, by any one of the following comments methods:

• Electronic submissions: Submit all electronic public comments via the Federal eRulemaking Portal http://www.regulations.gov.

• Hand delivery or mailing of paper, disk, or CD-ROM comments should be addressed to Michael Payne, Chief, Permits, Conservation, and Education Division, Office of Protected Resources, National Marine Fisheries Service, 1315 East-West Highway, Silver Spring, MD 20910-3225.

Instructions: All comments received are part of the public record and will generally be posted to http://www.regulations.gov without change. All Personal Identifying Information (for example, name, address, etc.) voluntarily submitted by the commenter may be publicly accessible. Do not submit Confidential Business Information or otherwise sensitive or protected information.

NMFS will accept anonymous comments (enter NA in the required fields if you wish to remain anonymous). Attachments to electronic comments will be accepted in Microsoft Word, Excel, WordPerfect, or Adobe PDF file formats only.

FOR FURTHER INFORMATION CONTACT: Shane Guan, Office of Protected Resources, NMFS, 301-713-2289.

SUPPLEMENTARY INFORMATION: Background information concerning the proposed regulations can be found in the March 16, 2009 Federal Register notice (74 FR 11052), and is not repeated here. For additional information regarding the proposed regulations and the Navy's associated Environmental Impact Statement, please visit NMFS' website at: http://www.nmfs.noaa.gov/pr/permits/incidental.htm.

Dated: March 31, 2009.
Tammy Adams, Ph.D.,
Acting Chief, Division of Permits, Conservation, and Education, Office of Protected Resources, National Marine Fisheries Service.

[FR Doc. E9-7703 Filed 4-3-09; 8:45 am]

BILLING CODE 3510-22-S